NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: 10 CFR part 40, Domestic Licensing of Source Material; and NRC Form 484, Detection Monitoring Data Report; and NRC Form 244, Registration Certificate—Use of Depleted Uranium under General License.

3. The form number if applicable: NRC Form 484 and NRC Form 244.

4. How often the collection is required: Reports required under 10 CFR part 40 are collected and evaluated on a continuing basis as events occur. There is a one-time submittal of information to receive a license. Renewal applications need to be submitted every 5 to 10 years. Information in previous applications may be referenced without being resubmitted. In addition, recordkeeping must be performed on an on-going basis. NRC Form 484 is submitted biannually to report ground-water data necessary to implement EPA ground-water standards.

NRC Form 244 is submitted when depleted uranium is received or transferred under general license.

5. Who will be required or asked to report:

10 CFR part 40: Applicants for and holders of NRC licenses authorizing the receipt, possession, use, or transfer of radioactive source and byproduct material.

NRC Form 484: Uranium recovery facility licensees reporting ground-water monitoring data pursuant to 10 CFR 40.64.

NRC Form 244: Persons receiving, possessing, using, or transferring depleted uranium under the general license established in 10 CFR 40.25(a).

6. An estimate of the number of annual responses:

10 CFR part 40: 869 responses (386 for NRC licensees and 483 for Agreement State licensees).

NRC Form 484: Included in 10 CFR part 40 above.

NRC Form 244: 60 responses (20 for NRC licensees and 40 for Agreement State licensees).

7. The estimated number of annual respondents:

10 CFR part 40: 271 licensees (99 for NRC licensees and 172 for Agreement State licensees).

NRC Form 484: Included in 10 CFR part 40 above.

NRC Form 244: 60 licensees (20 for NRC licensees and 40 for Agreement State licensees).

8. An estimate of the total number of hours needed annually to complete the requirement or request:

10 CFR part 40: 59,367 total hours (21,886 for NRC Licensees (16,182 hours for reporting and 5,704 hours for recordkeeping) and (37,481 for Agreement State Licensees (28,083 hours for reporting and 9,398 hours for recordkeeping).

NRC Form 484: Included in 10 CFR part 40 above.

NRC Form 244: 60 hours (20 hours for NRC licensees and 40 hours for Agreement State licensees) for reporting requirements.

9. An indication of whether Section 3507(d), Pub. L. 104-13 applies: N/A.

10. Abstract: 10 CFR part 40 establishes requirements for licenses for the receipt, possession, use and transfer of radioactive source and byproduct material. NRC Form 484 is used to report certain groundwater monitoring data required by 10 CFR part 40 for uranium recovery licensees. NRC Form 244 is used to report receipt and transfer of depleted uranium under general license, as required by 10 CFR part 40. The application, reporting and recordkeeping requirements are necessary to permit the NRC to make a determination on whether the possession, use, and transfer of source and byproduct material is in conformance with the Commission's regulations for protection of public health and safety.

A copy of the final supporting statement may be viewed free of charge at the NRC Public Document Room, One White Flint North, 11555 Rockville Pike, Room O-1 F21, Rockville, MD 20852. OMB clearance requests are available at the NRC Worldwide Web site: http://www.nrc.gov/public-involve/doc-comment/omb/index.html. The document will be available on the NRC home page site for 60 days after the signature date of this notice.

Comments and questions should be directed to the OMB reviewer listed below by July 31, 2003. Comments received after this date will be considered if it is practical to do so, but assurance of consideration cannot be given to comments received after this date.

Bryon Allen, Office of Information and Regulatory Affairs (3150-0020 and 3150-0031), NEOB-10202, Office of Management and Budget, Washington, DC 20503.

Comments can also be submitted by telephone at (202) 395-3087.

The NRC Clearance Officer is Brenda Jo. Shelton, 301-415-7233.

Dated at Rockville, Maryland, this 25th day of June, 2003.
For the Nuclear Regulatory Commission.
Brenda Jo. Shelton,
NRC Clearance Officer, Office of the Chief Information Officer.

[FR Doc. 03-16537 Filed 6-30-03; 8:45 am]

BILLING CODE 7590-01-P